DEPARTMENT OF TRANSPORTATION

Federal Aviation Administration

14 CFR Part 39

[Docket No. FAA-2011-1163; Directorate Identifier 2011-NM-022-AD; Amendment 39-16857; AD 2011-23-06]

RIN 2120-AA64

Airworthiness Directives; Sicma Aero Seat Passenger Seat Assemblies, Installed on, But Not Limited to, ATR-GIE Avions de Transport Régional Airplanes

AGENCY: Federal Aviation Administration (FAA), Department of Transportation (DOT).

ACTION: Final rule; request for comments.

SUMMARY: We are adopting a new airworthiness directive (AD) for Sicma Aero Seat Model 9401, 9402, 9404, 9405, 9406, 9407, 9408, and 9409 series passenger seat assemblies, installed on, but not limited to, ATR-GIE Avions de Transport Régional Model ATR42 and ATR72 airplanes. This AD results from mandatory continuing airworthiness information (MCAI) originated by an aviation authority of another country to identify and correct an unsafe condition on an aviation product. The MCAI describes the unsafe condition as:

Several occurrences of cracked central and lateral spreaders on passenger seats models 9401 and 9402 * * *.

This condition, if not corrected, can lead to further cracking of the seat spreaders, causing injury to passengers or crew members during heavy turbulence in flight or in the event of an emergency landing.

* * * * *

This AD requires actions that are intended to address the unsafe condition described in the MCAI.

DATES: This AD becomes effective November 21, 2011.

The Director of the Federal Register approved the incorporation by reference of certain publications listed in the AD as of November 21, 2011.

We must receive comments on this AD by December 19, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Jeffrey Lee, Aerospace Engineer, Boston Aircraft Certification Office, FAA, Engine & Propeller Directorate, 12 New England Executive Park, Burlington, MA 01803; telephone (781) 238-7161; fax (781) 238-7170; email: jeffrey.lee@faa.gov.

SUPPLEMENTARY INFORMATION:

Discussion

The European Aviation Safety Agency (EASA), which is the Technical Agent for the Member States of the European Community, has issued EASA Airworthiness Directive 2008-0097, dated May 20, 2008 (referred to after this as “the MCAI”), to correct an unsafe condition for the specified products. The MCAI states:

Several occurrences of cracked central and lateral spreaders on passenger seats models 9401 and 9402 have been reported to Sicma Aero Seat.

This condition, if not corrected, can lead to further cracking of the seat spreaders, causing injury to passengers or crew members during heavy turbulence in flight or in the event of an emergency landing.

For the reasons stated above, this [EASA] Airworthiness Directive (AD) requires repetitive [detailed] inspections of the affected seats and, depending on findings, the repair or replacement of damaged spreaders with an improved design (`Amendment B' standard). The replacement of all spreaders (i.e. modification to `Amendment B' standard) terminates the repetitive inspection requirements.

* * * * *

You may obtain further information by examining the MCAI in the AD docket.

Relevant Service Information

Sicma Aero Seat has issued the following service information. The actions described in this service information are intended to correct the unsafe condition identified in the MCAI.

• Sicma Aero Seat Service Bulletin 94-25-011, Revision 3, dated June 30, 2008.

• Sicma Aero Seat Service Bulletin 94-25-012, Revision 1, dated June 26, 2008.

• Sicma Aero Seat Service Bulletin 94-25-013, Issue 4, dated February 12, 2008.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a note within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2011-1163; Directorate Identifier 2011-NM-022-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-23-06 Sicma Aero Seat: Amendment 39-16857. Docket No. FAA-2011-23-06; Directorate Identifier 2011-NM-022-AD.

Effective Date

(a) This airworthiness directive (AD) becomes effective November 21, 2011.

Affected ADs

(b) None.

Applicability

(c) This AD applies to Sicma Aero Seat Model 9401, 9402, 9404, 9505, 9406, 9407, 9408, and 9409 series passenger seat assemblies, all part numbers, except front row and aft facing seats, and those modified to “Amendment B” standard. These passenger seat assemblies are installed on, but not limited to, ATR-GIE Avions de Transport Régional Model ATR42-200, -300, -320, and -500 airplanes and Model ATR72-101, -201, -102, -202, -211, -212, and -212A airplanes.

Note 1: This AD applies to Sicma Aero Seat passenger seat assemblies as installed on any airplane, regardless of whether the airplane has been otherwise modified, altered, or repaired in the area subject to the requirements of this AD. For airplanes that have been modified, altered, or repaired so that the performance of the requirements of this AD is affected, the owner/operator must request approval for an alternative method of compliance (AMOC) according to paragraph (k)(1) of this AD. The request should include an assessment of the effect of the modification, alteration, or repair on the unsafe condition addressed by this AD; and, if the unsafe condition has not been eliminated, the request should include specific proposed actions to address it.

Subject

(d) Air Transport Association (ATA) of America Code 25: Equipment/Furnishings.

Reason

(e) The mandatory continued airworthiness information (MCAI) states:

Several occurrences of cracked central and lateral spreaders on passenger seats models 9401 and 9402 * * *.

This condition, if not corrected, can lead to further cracking of the seat spreaders, causing injury to passengers or crew members during heavy turbulence in flight or in the event of an emergency landing.

* * * * *

Compliance

(f) You are responsible for having the actions required by this AD performed within the compliance times specified, unless the actions have already been done.

Repetitive Inspections, Repair, and Replacement

(g) Within 6 months after the effective date of this AD, perform a detailed inspection for cracking of the central and lateral spreaders of the affected seats, in accordance with paragraph 2/A1., “Checking procedures of lateral and central spreaders,” of the Accomplishment Instructions of Sicma Aero Seat Service Bulletin 94-25-013, Issue 4, dated February 12, 2008.

(1) If no cracking is found on any central spreader, repeat the detailed inspection thereafter at intervals not to exceed 550 flight hours until the replacement specified in paragraph (h) of this AD is done.

(2) If no cracking or only cracks that are shorter than 8 millimeters (mm) (0.315 inch) are found on any lateral spreader, repeat the detailed inspection thereafter at intervals not to exceed 550 flight hours until the replacement specified in paragraph (h) of this AD is done.

(3) If all cracks found on any central spreader are shorter than 8 mm (0.315 inch), before further flight, repair the affected spreader, in accordance with paragraphs 2/A through C2. of the Accomplishment Instructions of Sicma Aero Seat Service Bulletin 94-25-011, Revision 3, dated June 30, 2008. Within 550 flight hours after doing the repair, do the detailed inspection specified in paragraph (g) of this AD, and repeat the inspection thereafter at intervals not to exceed 550 flight hours until the replacement specified in paragraph (h) of this AD is done.

(4) If one or more cracks are found that are 8 mm (0.315 inch) or longer on any lateral or central spreader, before further flight, replace the affected spreader, in accordance with paragraphs 2/A through D2. of the Accomplishment Instructions of Sicma Aero Seat Service Bulletin 94-25-012, Revision 1, dated June 26, 2008.

Optional Terminating Action

(h) Replacing all central and lateral spreaders on an affected seat assembly (modify to “Amendment B” standard), in accordance with paragraphs 2/A through D2. of the Accomplishment Instructions of Sicma Aero Seat Service Bulletin 94-25-012, Revision 1, dated June 26, 2008, terminates the inspections required by this AD for that seat assembly.

Credit for Actions Accomplished in Accordance With Previous Service Information

(i) Actions done before the effective date of this AD in accordance with Sicma Aero Seat Service Bulletin 94-25-011, Issue 2, dated November 6, 2007; and Sicma Aero Seat Service Bulletin 94-25-012, dated September 25, 2007; are acceptable for compliance with the corresponding actions of this AD.

Parts Installation

(j) As of 6 months after the effective date of this AD, no person may install any passenger seat assembly identified in paragraph (c) of this AD, on any airplane, unless it has been modified to “Amendment B” standard in accordance with the Accomplishment Instructions of Sicma Aero Seat Service Bulletin 94-25-012, Revision 1, dated June 26, 2008.

FAA AD Differences

Note 2: This AD differs from the MCAI and/or service information as follows: No differences.

Other FAA AD Provisions

(k) The following provisions also apply to this AD:

(1) Alternative Methods of Compliance (AMOCs): The Manager, Boston Aircraft Certification Office, FAA, has the authority to approve AMOCs for this AD, if requested using the procedures found in 14 CFR 39.19. In accordance with 14 CFR 39.19, send your request to your principal inspector or local Flight Standards District Office, as appropriate. If sending information directly to the ACO, send it to Attn: Jeffrey Lee, Aerospace Engineer, Boston Aircraft Certification Office, FAA, Engine & Propeller Directorate, 12 New England Executive Park, Burlington, MA 01803; telephone (781) 238-7161; fax (781) 238-7170; email; jeffrey.lee@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(l) Refer to Mandatory Continuing Airworthiness Information (MCAI) European Aviation Safety Agency AD 2008-0097, dated May 20, 2008; Sicma Aero Seat Service Bulletin 94-25-011, Revision 3, dated June 30, 2008; Sicma Aero Seat Service Bulletin 94-25-012, Revision 1, dated June 26, 2008; and Sicma Aero Seat Service Bulletin 94-25-013, Issue 4, dated February 12, 2008; for related information.

(m) Contact Jeffrey Lee, Aerospace Engineer, Boston Aircraft Certification Office, FAA, Engine & Propeller Directorate, 12 New England Executive Park, Burlington, MA 01803; telephone (781) 238-7161; fax (781) 238-7170; email; jeffrey.lee@faa.gov, for more information about this AD.

Material Incorporated by Reference

(n) You must use Sicma Aero Seat Service Bulletin 94-25-011, Revision 3, dated June 30, 2008; Sicma Aero Seat Service Bulletin 94-25-012, Revision 1, dated June 26, 2008; and Sicma Aero Seat Service Bulletin 94-25-013, Issue 4, dated February 12, 2008; as applicable; to do the actions required by this AD, unless the AD specifies otherwise.

(1) The Director of the Federal Register approved the incorporation by reference of this service information under 5 U.S.C. 552(a) and 1 CFR part 51.

(2) For service information identified in this AD, contact Sicma Aero Seat, 7 Rue Lucien Coupet, 36100 ISSOUDUN, France, telephone: +33 (0) 2 54 03 39 39; fax: +33 (0) 2 54 03 39 00; email Customerservices.sas@zodiacaerospace.com; Internet http://www.sicma.zodiacaerospace.com.

(3) You may review copies of the service information at the FAA, Transport Airplane Directorate, 1601 Lind Avenue SW., Renton, Washington. For information on the availability of this material at the FAA, call (425) 227-1221.

(4) You may also review copies of the service information that is incorporated by reference at the National Archives and Records Administration (NARA). For information on the availability of this material at NARA, call (202) 741-6030, or go to: http://www.archives.gov/federal_register/code_of_federal_regulations/ibr_locations.html.

Issued in Renton, Washington, on October 20, 2011.
Kalene C. Yanamura,
Acting Manager, Transport Airplane Directorate, Aircraft Certification Service.

[FR Doc. 2011-28357 Filed 11-3-11; 8:45 am]

BILLING CODE 4910-13-P